DEPARTMENT OF THE TREASURY

Submission for OMB Review; Comment Request

June 21, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 29, 2002 to be assured of consideration.

U.S. Customs Service (CUS)

OMB Number: 1515-0041.

Form Number: Customs Form 6059B.

Type of Review: Extension.

Title: U.S. Customs Declaration.

Description: The U.S. Customs Declaration, Customs Form 6059B, facilitates the clearance of persons and their goods arriving in the U.S. by requiring basic information necessary for Customs to determine enforcement of all applicable laws and regulations.

Respondents: Individuals or households.

Estimated Number of Respondents: 60,000,000.

Estimated Burden Hours Per Respondent : 4 minutes.

Frequency of Response: On occasion.

Estimated Total Reporting Burden: 3,960,000 hours.

OMB Number: 1515-0059.

Form Number: Customs Form 1303.

Type of Review: Extension.

Title: Ship's Stores Declaration.

Description: This collection is required for audit purposes to ensure that goods used for Ship's Stores caused to ensure revenue collections and to provide duty free entry of merchandise eligible for reduced duty treatment under provisions of HTUSA.

Respondents: Business or other for-profit, individuals or households, not-for-profit institutions, Federal Government.

Estimated Number of Respondents/Recordkeepers: 8,000.

Estimated Burden Hours Per Respondent/Recordkeeper: 15 minutes.

Frequency of Response: On occasion.

Estimated Total Reporting/Recordkeeping Burden: 26,000 hours.

OMB Number: 1515-0117.

Form Number: None.

Type of Review: Revision.

Title: Establishment of a Container Station.

Description: This collection is an application to establish a container station for the vaning and devaning of cargo.

Respondents: Business or other for-profit, individuals or households, not-for-profit institutions.

Estimated Number of Respondents: 205.

Estimated Burden Hours Per Respondent: 3 hours.

Frequency of Response: On occasion.

Estimated Total Reporting Burden: 615 hours.

OMB Number: 1515-0121.

Form Number: None.

Type of Review: Extension.

Title: Establishment of a Bonded Warehouse.

Description: Owners or lessees desiring to establish a bonded warehouse must make written application to the port directors where the warehouse is located. The application must state warehouse location, describe the premises and indicate the class of bonded warehouse permit desired.

Respondents: Business or other for-profit, individuals or households, not-for-profit institutions, Federal Government.

Estimated Number of Respondents: 54.

Estimated Burden Hours Per Respondent: 3 hours.

Frequency of Response: On occasion.

Estimated Total Reporting Burden: 162 hours.

OMB Number: 1515-0127.

Form Number: None.

Type of Review: Extension.

Title: Application for Bonding of Smelting and Refining.

Description: A manufacturer engaged in smelting or refining, or both, of metal-bearing materials as provided for in Section 312, Tariff Act 1930, as amended, may make application to the port director nearest the plant location, for the bonding of such plants pursuant to 19 U.S.C. 1312 and 19 CFR 19.17(a).

Respondents: Business or other for-profit, individuals or households, not-for-profit institutions, State, Local or Tribal Government.

Estimated Number of Respondents/Recordkeepers: 2.

Estimated Burden Hours Per Respondent/Recordkeeper: 8 hours.

Frequency of Response: On occasion.

Estimated Total Reporting/Recordkeeping Burden: 16 hours.

OMB Number: 1515-0133.

Form Number: None.

Type of Review: Extension.

Title: Application to Receive Free Materials in a Bonded Warehouse.

Description: The proprietor of a bonded manufacturing warehouse must make application to the port director of Customs to receive domestic merchandise which is to be used in connection with the manufacture of articles permitted to be manufactured in such a warehouse.

Respondents: Business or other for-profit, Individuals or households, Not-for-profit institutions.

Estimated Number of Respondents/Recordkeepers: 10.

Estimated Burden Hours Per Respondent/Recordkeeper: 30 minutes.

Frequency of Response: On occasion.

Estimated Total Reporting/Recordkeeping Burden: 4,500 hours.

OMB Number: 1515-0134.

Form Number: None.

Type of Review: Extension.

Title: Bonded Warehouses-Alterations, Suspensions, Relocations and Discontinuances.

Description: Alterations to, or relocation of a bonded warehouse may be made with the permission of the port director in whose port the facility is located by submission of an application by the warehouse proprietor to alter or relocate the warehouse.

Respondents: Business or other for-profit, individuals or households, not-for-profit institutions, State, Local or Tribal Government.

Estimated Number of Respondents/Recordkeepers: 132.

Estimated Burden Hours Per Respondent/Recordkeeper: 1 hour, 10 minutes.

Frequency of Response: On occasion.

Estimated Total Reporting Burden: 615 hours.

OMB Number: 1515-0186.

Form Number: None.

Type of Review: Extension.

Title: Air Waybill.

Description: Use of an Air Waybill in lieu of a Customs form to report arrival of freight and transportation in-bond of freight to the port of destination.

Respondents: Business or other for-profit.

Estimated Number of Respondents/Recordkeepers: 60.

Estimated Burden Hours Per Respondent/Recordkeeper: 2 minutes.

Frequency of Response: On occasion.

Estimated Total Reporting/Recordkeeping Burden: 1,030 hours.

Estimated Total Reporting Burden: 615 hours.

OMB Number: 1515-0194.

Form Number: None.

Type of Review: Extension.

Title: Documentation Requirements for Articles Entered Under Various Special Treatment Provisions.

Description: This collection is used to ensure revenue collections and to provide duty free entry of merchandise eligible for reduced duty treatment under provisions of HTUSA.

Respondents: State, Local or Tribal Government, individuals or households, business or other for-profit, not-for-profit institutions.

Estimated Number of Respondents: 19,433.

Estimated Burden Hours Per Respondent: 15 minutes.

Frequency of Response: On occasion.

Estimated Total Reporting Burden: 14,575 hours.

OMB Number: 1515-0210.

Form Number: None.

Type of Review: Revision.

Title: Notice of Detention.

Description: A response to the “Notice of Detention” of merchandise by the claimant to the property will help provide evidence of admissibility to Customs and facilitate the decision making process to allow entry or deny entry of imported merchandise.

Respondents: Business or other for-profit, Individuals or households.

Estimated Number of Respondents: 1,350.

Estimated Burden Hours Per Respondent : 2 hours.

Frequency of Response: On occasion.

Estimated Total Reporting Burden: 2,700 hours.

Clearance Officer: Tracey Denning, (202) 927-1429, U.S. Customs Service, Information Services Branch, Ronald Reagan Building, 1300 Pennsylvania Avenue, NW, Room 3.2.C, Washington, DC 20229.

OMB Reviewer: Joseph F. Lackey, Jr., (202) 395-7316, Office of Management and Budget, Room 10235, New Executive Office Building, Washington, DC 20503.

Mary A. Able,
Departmental Reports Management Officer.

[FR Doc. 02-16319 Filed 6-27-02; 8:45 am]

BILLING CODE 4820-02-P